DEPARTMENT OF TRANSPORTATION

Federal Aviation Administration

14 CFR Part 39

[Docket No. FAA-2005-20847; Directorate Identifier 2004-NE-35-AD]

RIN 2120-AA64

Airworthiness Directives; Goodrich De-icing and Specialty Systems “FASTprop” Propeller De-icers

AGENCY: Federal Aviation Administration (FAA), DOT.

ACTION: Notice of proposed rulemaking (NPRM).

SUMMARY: The FAA proposes to adopt a new airworthiness directive (AD) for Goodrich De-icing and Specialty Systems “FASTprop” propeller de-icers, part numbers P4E1188 series, P4E1601 series, P4E2200 series, P4E2271-10, P4E2575-7, P4E2575-10, P4E2598-10, P5855BSW, P6199SW, P6592SW, P6662SW, and P6975-11, installed. This proposed AD would require inspection, repair, or replacement of those “FASTprop” propeller de-icers that fail visual checks before the first flight each day. This proposed AD results from reports of Goodrich “FASTprop” propeller de-icers becoming loose or debonded, and detaching from propeller blades during operation. We are proposing this AD to prevent Goodrich “FASTprop” propeller de-icers from detaching from the propeller blade, resulting in damage to the airplane and possible injury to the passengers and crewmembers.

DATES: We must receive any comments on this proposed AD by May 6, 2005.

ADDRESSES: Use one of the following addresses to comment on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-0001.

• Fax: (202) 493-2251.

• Hand Delivery: Room PL-401 on the plaza level of the Nassif Building, 400 Seventh Street, SW., Washington, DC, between 9 a.m. and 5 p.m., Monday through Friday, except Federal holidays.

Contact Goodrich De-icing and Specialty Systems, 219 Stringtown Road, Union, West Virginia 24983, telephone (330) 374-3743, for the service information referenced in this proposed AD.

You may examine the comments on this proposed AD in the AD docket on the Internet at http://dms.dot.gov.

FOR FURTHER INFORMATION CONTACT: Melissa T. Bradley, Aerospace Engineer, Chicago Aircraft Certification Office, FAA, 2300 East Devon Avenue, Des Plaines, IL 60018-4696; telephone (847) 294-8110; fax (847) 294-7834.

SUPPLEMENTARY INFORMATION:

Comments Invited

We invite you to send us any written relevant data, views, or arguments regarding this proposal. Send your comments to an address listed under ADDRESSES. Include “Docket No. FAA-2005-20847; Directorate Identifier 2004-NE-35-AD” in the subject line of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of the DMS Web site, anyone can find and read the comments in any of our dockets, including the name of the individual who sent the comment (or signed the comment on behalf of an association, business, labor union, etc.). You may review the DOT's complete Privacy Act Statement in the Federal Register published on April 11, 2000 (65 FR 19477-78) or you may visit http://dms.dot.gov.

Examining the AD Docket

You may examine the docket that contains the proposal, any comments received and, any final disposition in person at the DMS Docket Offices between 9 a.m. and 5 p.m., Monday through Friday, except Federal holidays. The Docket Office (telephone (800) 647-5227) is located on the plaza level of the Department of Transportation Nassif Building at the street address stated in ADDRESSES. Comments will be available in the AD docket shortly after the DMS receives them.

Discussion

In September of 2004, we became aware of reports of about 200 Goodrich De-icing and Specialty Systems “FASTprop” propeller de-icers found debonded, loose, or detached from propeller blades during operation. The manufacturer is still investigating to determine the exact cause of this potential unsafe condition. This condition, if not corrected, could result in propeller de-icers detaching from propeller blades, resulting in damage to the airplane and possible injury to the passengers and crewmembers.

Relevant Service Information

We have reviewed and approved the technical contents of Goodrich De-icing and Specialty Systems Alert Service Bulletin No. 30-60-00-1, dated November 15, 2004, that describes procedures for visual checks of “FASTprop” propeller de-icers before the first flight each day, and inspection, repair, or replacement of those propeller de-icers if necessary.

FAA's Determination and Requirements of the Proposed AD

We have evaluated all pertinent information and identified an unsafe condition that is likely to exist or develop on other products of this same type design. We are proposing this AD, which would require inspection, repair, or replacement before further flight, of Goodrich “FASTprop” propeller de-icers if they fail the visual check before the first flight each day. The proposed AD would require you to use the service information described previously to perform these actions.

Interim Action

These actions are interim actions and we may take further rulemaking actions in the future.

Costs of Compliance

We estimate that 3,400 Goodrich propeller de-icers are installed on airplanes of U.S. registry and would be affected by this proposed AD. We also estimate that it would take about 2 minutes per propeller blade to perform the proposed preflight visual check, about 5 minutes per propeller blade to perform the proposed inspection of de-icers that fail the visual check, and about 0.5 work hour to replace a propeller de-icer. The average labor rate is $65 per work hour. Required parts would cost about $110.00 per replacement propeller de-icer. The manufacturer has advised us that replacement de-icers will be provided at no cost to the operators. Based on these figures, we estimate the total cost of the proposed AD to U.S. operators to be $510,240.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Would not have a significant economic impact, positive or negative, on a substantial number of small entities under the criteria of the Regulatory Flexibility Act.

We prepared a summary of the costs to comply with this proposal and placed it in the AD Docket. You may get a copy of this summary at the address listed under ADDRESSES.

List of Subjects in 14 CFR Part 39

Air transportation, Aircraft, Aviation safety, Safety.

The Proposed Amendment

Under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Goodrich De-icing and Specialty Systems: Docket No. FAA-2005-20847; Directorate Identifier 2004-NE-35-AD.

Comments Due Date

(a) The Federal Aviation Administration (FAA) must receive comments on this airworthiness directive (AD) action by May 6, 2005.

Affected ADs

(b) None.

Applicability

(c) This AD applies to Goodrich De-icing and Specialty Systems “FASTprop” propeller de-icers, part numbers (P/Ns) P4E1188 series, P4E1601 series, P4E2200 series, P4E2271-10, P4E2575-7, P4E2575-10, P4E2598-10, P5855BSW, P6199SW, P6592SW, P6662SW, and P6975-11, installed. These propeller de-icers are installed on, but not limited to, the airplanes listed in Table 1 of this AD.

Table 1.—Goodrich “FASTprop” Propeller De-icers
De-icer P/N: | Installed on, but not limited to:
P4E1188-2 | Metal propellers operated up to 2,900 rpm on:
| Cessna 210E, 210F, 210G, 210H, 210J, 210K, 210L, T210F, T210G, T210H, T210J, T210K, and T210L.
| With Supplemental Type Certificate (STC) SA1-502 on Raytheon (Beech) D18C, D18S, E18S, G18S, H18, C45G, C45H, TC45G, and TC45H.
P4E1188-3 | Metal propellers operated up to 2,900 rpm on: Raytheon (Beech) D18C, D18S, E18S, E18S-9700, G18S, H18, C-45G, C-45H, C-45J, TC-45G. TC-45H, TC-45J (SNB-5), and JRB-6. With STC SA1-503 on Raytheon (Beech), E50, F50, G50, H50, J50, and 65. With STC SA15EA on Raytheon (Beech) E50, F50, G50, H50, J50, 65, and 65-80.
| Raytheon (Beech) 55, B55, D55, D55A, E55, 95-C55, 95-C55A, 58, 95-55, 95-A55, 95-B55, 56TC, 60, 65, 65-80, 65-90, 65-A90, B90, C90, 99, 99A, A99, A99A, 100, and A100.
| With STC SA1-506 on Cessna 310. With McCauley props on Cessna 310, 320, 340, 401, 402, 411, 414, and 421. With STC SA2424WE on Cessna 402. With STC SA132EA on Twin Commander (Gulfstream) 560A, 560E, 680, 680E, and 720. With STC SA179EA on Twin Commander (Gulfstream) 560F, 680FL, 680FL(P), and 680-F.
| With STC SA1-520 on Twin Commander (Gulfstream) 560A, 560E 680, 680E, and 720. On the following models equipped with 90-amp generator: Twin Commander (Gulfstream) 500B, 500S, and 500U. With STC SA1-607 on Twin Commander (Gulfstream) 500A. With STC SA2478SW on Twin Commander (Gulfstream) 500. With STC SA2891WE or STC SA2691WE on Twin Commander (Gulfstream) 680F, 680FP, and 680FL(P).
| Twin Commander (Gulfstream) 680V, 680T, 680W, and 681. Mitsubishi Heavy Industries MU-2 series. With STC SA195EA on Piper PA-23-250, E23-250 (serial number (SN) 27-2505 up). Piper PA-31 (SN 31-5 up), PA-31-300 (SN 31-5 up), PA-31-325 (SN 31-5 up), and PA-31-350 (SN 31-5001 up).
P4E1188-4 | Metal propellers operated up to 2,900 rpm on:
| B-N Group Ltd. (Britten Norman) BN-2, BN-2A, and BN-2A Mark III series, Vulcanair (Partenavia) P-68, Piper Aerostar 600, 601, and 601P.
| On the following models equipped with 3-blade props: Short Brothers SC7 series 3, M7 Aerospace (Fairchild) SA26-T, SA26-AT, SA226-T, SA226-AT, and SA226-TC. The following models equipped with 70-amp alternators and Hartzell HC-A3XK props: Twin Commander (Gulfstream) 500B, 500S, and 500U.
| The following models equipped with 70-amp alternator and Hartzell HC-C3YR-2 props: Twin Commander (Gulfstream) 500S and 500U. The following model with 70- or 100-amp alternators and Hartzell HC-C3YR-R props: Twin Commander (Gulfstream) 500S (SN 3115 up). With STC SA2478SW on model Twin Commander (Gulfstream) 500. With STC SA2691WE or SA2891WE on the following models: Twin Commander (Gulfstream) 680F, 680FL, and 680FLP.
P4E1188-5 | Metal propellers operated up to 2,900 rpm on:
| With Hartzell HC-B3TN-3 props on Raytheon (Beech) D18C, D18S, E18S, E18S-9700, G18S, H18, C45G, C45H, TC45G, TC45H, C45J, TC45J (SN B-5), JRB-6, 99, 99A, A99, A99A, 99B, B99, 100, A100, A100A, A100C, and B100.
| With Hartzell HC-B3TN-3 props on Raytheon (Beech) 65-90, 65-A90, 65-A90-1, 65-A90-2, 65-A90-3, 65-A90-4, B90, C90, E90, and H90. With Hartzell HC-B3TN-3 props on Bombardier (deHavilland) DHC-6-300, Israel Aircraft Industries 101 Arava, Mitsubishi Heavy Industries MU-2B-10, -15, -20, -25, -26, -30, -35, -36, MU-2 Series, Pilatus PC-6, Piper PA-31T (SN 31T-7400002 up), and PA31T1.
| With STC SA2293SW on British Aerospace (Scotland) Handley Page Jetstream 137 Mark I. AeroSpace Technologies of Australia (Government Aircraft Factories) N22B.
| Short Brothers SC7 series 3 equipped with 4-blade props.
P4E1188-6 | Metal propellers operated up to 2,900 rpm on: With Hartzell HC-B3TN-5( ) props on Cessna 425 and 441. Embraer EMB-110P1 and 110P2. Short Brothers SC7 series 3 equipped with 3-blade props. M7 Aerospace (Fairchild) SA226-T, SA226-AT, and SA226-TC.
P4E1188-7 | Metal propellers operated up to 2,900 rpm on:
| Mitsubishi Heavy Industries MU-2B, MU-2B-26A, MU-2B-36A, MU-2B-40, and MU-2B-60.
P4E1601-3 | Metal propellers operated up to 2,900 rpm on:
| Piper PA31 (SN 5 up), PA31-300 (SN 5 up), PA31-325 (SN 5 up), PA31P (SN 31P-3 up), and PA31-350 (SN 31-5001 up).
P4E1601-4 | Metal propellers operated up to 2,900 rpm on: Raytheon (Beech) 65-88.
P4E1601-5 | Metal propellers operated up to 2,900 rpm on: Casa C212CB. Twin Commander (Gulfstream) 690 and 690A.
P4E1601-7 | Metal propellers operated up to 2,900 rpm on: Raytheon (Beech) B55, E55, 56TC, 58P, and 60. With STC SA2369SW on Nord 262A.
| The following models equipped with 70- or 100-amp alternator and Hartzell HC-C3YR-2 props: Twin Commander (Gulfstream) 500S (SN 3115 up) and Twin Commander (Gulfstream) 685.
| Short Brothers SD3-30.
P4E1601-10 | Metal propellers operated up to 2,900 rpm on: Raytheon (Beech) B55, E55, 56TC, 58P, and 60. Twin Commander (Gulfstream) 690C and 695. M7 Aerospace (Fairchild) SA-226-TB, SA227-AC, SA227-TT, and SA227-AT.
P4E2200-2 | Metal propellers operated up to 2,900 rpm on: With STC SA00719LA on Raytheon (Beech) A36. With STC SA00718LA on Raytheon (Beech) B36TC. Raytheon (Beech) V35 equipped with 2- or 3-blade McCauley props.
P4E2200-3 | Metal propellers operated up to 2,900 rpm on: Raytheon (Beech) E50, F50, G50, H50, and J50. Cessna E310J, T310P, 310, 310E, 310J, 310K, 310L, 310N, 320, 320D, 320F, 40, 402A, 402B, 411, 411A, 414, 421, 421A, and 421B. Piper PA23-250.
P4E2200-4 | Metal propellers operated up to 2,900 rpm on: B-N Group Ltd. (Britten Norman) BN-2A Mark III, BN-2, BN-2A. Piper 600, 601, 601P.
P4E2200-10 | Metal propellers operated up to 2,900 rpm on: With Volpar Turboliner conversion on the following models: Raytheon (Beech) D18C and D18S. Raytheon (Beech) 56TC, A56TC, 65-90, 65-A90, B90, C90, E90, H90, 99, A99, 99A, B99, 99B, 100, A100, A100A, A100C, B100, and 200.
| Embraer EMB 110P1 and 110P2. Mitsubishi Heavy Industries MU-2B, MU-2B-10, MU-2B-15, MU-2B-20, MU-2B-25, MU-2B-30, and MU-2B-35.
| Pilatus PC-6. Piper PA31-350 (SN 5001 up) and PA31P (SN 31P-3 up). M7 Aerospace (Fairchild) SA26-T, SA26-AT, SA226-T, SA226TC, and SA226AT. Twin Commander (Gulfstream) 500B, 500U, 560F, 680F, 680FP, 680FL, and 680FLP.
P4E2200-21 | Metal propellers operated up to 2,900 rpm with STC SA812NE on the following models: Raytheon (Beech) 65-90 series, B90, C90, E90, F90, H90, 99 A99 series, C99, 100, A100 series, B100, and 200. Embraer EMB110 series. M7 Aerospace (Fairchild) SA226-AT, SA226-T, and SA-226TC.
| Mitsubishi Heavy Industries MU-2B, MU-2B-10, MU-2B-15, MU-2B-20, MU-2B-25, MU-2B-26, MU-2B-30, MU-2B-35, and MU-2B-36. Pilatus PC-6, PC-6B-H2, PC-6B1-H2, PC-6C-H2, PC-6C1-H2, and PC-7. Piper PA-31T, PA-31T1, PA-31T1A, PA-31T2A, PA-31T3, and PA-31T-1040.
P4E2271-10 | Metal propellers operated up to 2,900 rpm on: B-N Group Ltd. (Britten-Norman) BN-2, BN-2A series, and BN-2A Mark III. With Volpar Turboliner conversion on the following models: Raytheon (Beech) D18C, and D18S.
| The following models equipped with 2- or 3-blade props: S35, V35, V35A, V35B, 35-C33A, F33A, F33C, and A36. Raytheon (Beech) E50, F50, G50, H50, J50, E55, E55A, 56TC, A56TC, 58, 58A, 60, A60, B60, 65-90, 65-A90, B90, C90, E90, H90, 95-B55, 95-B55A, 99, A99, A99A, 99A, 100, A100, A100A, A100C, B100, and 200.
| With STC SA00966CH on Raytheon (Beech) C90B. With STC SA3593NM on Raytheon (Beech) E90. With STC SA4131NM on Raytheon (Beech) F90. With STC SA2698NM on the following models: Raytheon (Beech) 200 and B200. pCessna 310, 310J, 310K, 310L, 310N, E310J, T310P, 320D, 320E, 320F, 340, 401A, 401B, 402A, 402B, 411, 411A, 414A, 414B, 421A, and 421B.
| With STC SA3532NM on Bombardier (deHavilland) DHC-6. With STC SA2369SW on Nord 262A. Mitsubishi Heavy Industries MU-2B-10, MU-2B-15, MU-2B-20, MU-2B-25, MU-2B-26A, MU-2B-30, MU-2B-35, MU-2B-36A, MU-2B-40, and MU-2B-60. Piper PA23, PA23-160, PA23-250, PA-E23-250 (SN 27-2505 UP), PA31 (SN 31-5 up), PA31-300 (SN 31-5 up), PA31-325 (SN 31-5 up), PA31-350 (SN 5001 up) PA34-200, PA34-200T, PA600, PA601, and PA601P.
| Pilatus PC-6. Short Brothers SD-3-30. M7 Aerospace (Fairchild) SA26-T, SA26-AT, SA226-T, SA226-AT, SA226TB, and SA226-TC. Twin Commander (Gulfstream) 500B, and 500U.
P4E2575-7 | Metal propellers operated up to 1,700 rpm on Raytheon (Beech) 300.
P4E2575-10 | Metal propellers operated up to 1,700 rpm on Raytheon (Beech) 300.
P4E2598-10 | Metal propellers operated up to 1,591 rpm on: AvCraft (Dornier) 228, M7 Aerospace (Fairchild) SA227-TT (SN 421-541), SA227-AT (SN 423-549), and SA227-AC (SN 420-545).
P5855BSW | Metal propellers on: Cessna T310Q, T310R, 340, 340A, 402B, 402C, 414, 414A, 421A, and 421B.
P6199SW | Metal propellers operated up to 2,900 rpm on: The following models equipped with McCauley D3A34C401 or D3A34C402 props: Cessna 210L, 210M, 210N, P210N, T210L, T210M, and T210N.
P6592SW | Metal propellers operated up to 2,900 rpm on: Various aircraft models equipped with McCauley 3AF32C504, 3AF32C505, 3AF32C506, or 3AF32C507 props.
P6662SW | Metal propellers operated up to 2,900 rpm on: Various aircraft models equipped with McCauley 3AF32C512/G-82NEA-5.
P6975-11 | Metal propellers operated up to 2,900 rpm on: With STC SA812EA and equipped with Hartzell HC-B3TN-3D, HC-B3TN-5C, or HC-B3TN-5M props: Air Tractor, AT-302 and AT-400. With STC SA812EA and equipped with Hartzell HC-B3TN-3C or HC-B3TN-3D props: Quality Aerospace (Ayres) S2R-T11.
| With STC SA2204WE and equipped with Hartzell HC-B3TN-5C props: Raytheon (Beech) D18C, D18S, E18S-9700, C45G, C45H, TC-45G, TC-45H, and TC-45J. Raytheon (Beech) T-34C equipped with Hartzell HC-B3TN-3H props.
| The following models equipped with Hartzell HC-B3TN-2B, HC-B3TN-3B, or HC-B3TN-3M props: Raytheon (Beech) 65-90, 65-A-90, 65-A90-1, 65-A90-2, 65-A90-3, and 65-A90-4.
| The following models equipped with Hartzell HC-B3TN-3B or HC-B3TN-3M props: Raytheon (Beech) B90, C90, E90, and H90. Raytheon (Beech) F90 equipped with Hartzell HC-B4TN-3A or HC-B4TN-3B props. The following models equipped with Hartzell HC-B3TN-3B props: Raytheon (Beech) 99, 99A, A99, and A99A. The following models equipped with Hartzell HC-B3TN-3B or HC-B3TN-3M props: Raytheon (Beech) C99, and 100.
| The following models equipped with Hartzell HC-B4TN-3 or HC-4TN-3A props: Raytheon (Beech) A100, A100A, and A100-1. Raytheon (Beech) B100 equipped with Hartzell HC-B4TN-5C or HC-B4TN-5F props. The following models equipped with Hartzell HC-B3TN-3G or HC-B3TN-3N props: Raytheon (Beech) 200, 200C, 200CT, 200T, A200, A200C, A200CT, B200, B200C, B200CT, and B200T.
| Raytheon (Beech) JRB-6 with STC SA1171WE equipped with Hartzell HC-B3TN-5C props. British Aerospace HP.137MK.1 with STC SA2293WE equipped with Hartzell HC-B3TN-3D props: CASA C212-100 Aviocar equipped with Hartzell HC-B4TN-5EL props.
| Cessna 441 equipped with Hartzell HC-B3TN-5E or HC-B3TN-5M props. Bombardier (deHavilland) DHC-2MK.III equipped with HC-B3TN-3, HC-B3TN-3B, or HC-B3TN-3BY props. Bombardier (deHavilland) DHC-6-300 equipped with Hartzell HC-B3TN-3(D)(Y) props. Embraer EMB-110P1/2 equipped with Hartzell HC-B3TN-3C or HC-B3TN-3D props.
| The following models equipped with Hartzell HC-B3TN-5( ) props: M7 Aerospace (Fairchild) SA226-AT, and SA226T. M7 Aerospace (Fairchild) SA226-TC equipped with Hartzell HC-B4TN-5( ) props. M7 Aerospace (Fairchild) SA226-TC with STC SA344GL equipped with Hartzell HC-B3TN-5( ) props.
| M7 Aerospace (Fairchild) SA226-TC with STC SA344Gl. The following models equipped with Hartzell HC-A3VF-7 or HC-3VH-7B props: AeroSpace Technologies of Australia (Government Aircraft Factories) N22B and N24A.
| The following models equipped with Hartzell HC-B3TN-3D props: IAI Arava 101 and 101B. The following models equipped with Hartzell HC-B3TN-3DY props: McKinnon (Grumman) G-21E and G-21G. The following models equipped with HC-B3TN-5( ) props: Mitsubishi Heavy Industries MU-2B, and MU-2B-10.
| The following models equipped with Hartzell HC-B3TN-5 props: Mitsubishi Heavy Industries MU-2B-15, MU-2B-20, MU-2B-25, MU-2B-26, MU-2B-30, MU-2B-35, and MU-2B-36. The following models equipped with Hartzell HC-B3TN-3C props: Pilatus PC-6, PC-6/B-H2, PC-6/B1-H2, PC-6/C-H2, PC-6/C1-H2.
| The following models equipped with Hartzell HC-B3TN-3B props: Piper PA-31T and PA31T1. The following models equipped with Hartzell HC-B3TN-3B or HC-B3TN-3K props: Piper PA42 and PA42-720. The following model equipped with Hartzell HC-B3TN-5( ) props: Short Brothers SC-7 series 3 Variant 200.
| With STC SA02059AK on the following model equipped with HC-B4TN-5 props: Short Brothers SC-7 series 3 Variant 200. The following models equipped with Hartzell HC-B3TN-5( ) props: Twin Commander (Gulfstream) 690, 690A, and 690B.

Unsafe Condition

(d) This AD results from reports of Goodrich “FASTprop” propeller de-icers becoming loose or debonded, and detaching from propeller blades during operation. We are issuing this AD to prevent Goodrich “FASTprop” propeller de-icers from detaching from the propeller blade, resulting in damage to the airplane, and possible injury to passengers and crewmembers.

Compliance

(e) You are responsible for having the actions required by this AD performed within the compliance times specified unless the actions have already been done.

Initial Visual Inspection of “FASTprop” Propeller De-icers

(f) During the next preflight or 100-hour inspection, whichever occurs first, after the effective date of this AD, visually check the “FASTprop” propeller de-icers. If any “FASTprop” propeller de-icer fails the visual check, then the “FASTprop” de-icer must be inspected, repaired, or replaced as necessary before the next flight. Use paragraph 2.A of the Accomplishment Instructions of Goodrich De-icing and Specialty Systems Alert Service Bulletin (ASB) No. 30-60-00-1, dated November 15, 2004 to do these actions.

Repetitive Visual Inspections of “FASTprop” Propeller De-icers

(g) If after the effective date of this AD, any “FASTprop” propeller de-icer found to have lifting, looseness, trapped air (bubbles) under the de-icer, debonding, or deteriorated edge sealer during the pilot's first preflight inspection of the day must be inspected, repaired, or replaced as necessary before the next flight. Use paragraph 2.A of the Accomplishment Instructions of Goodrich De-icing and Specialty Systems Alert Service Bulletin (ASB) No. 30-60-00-1, dated November 15, 2004 to do these actions.

Alternative Methods of Compliance

(h) The Manager, Chicago Aircraft Certification Office, has the authority to approve alternative methods of compliance for this AD if requested using the procedures found in 14 CFR 39.19.

Special Flight Permits

(i) Under 14 CFR part 39.23, we are limiting the special flight permits for this AD by requiring that any propeller found with a loose or debonded “FASTprop” de-icer must have all de-icers removed before the flight, to maintain a balanced propeller. Information on removing de-icers can be found in paragraph 1.K.(1) of Goodrich De-icing and Specialty Systems ASB No. 30-60-00-1, dated November 15, 2004.

Related Information

(j) None.

Issued in Burlington, Massachusetts, on March 30, 2005.
Diane Cook,
Acting Manager, Engine and Propeller Directorate, Aircraft Certification Service.

[FR Doc. 05-6776 Filed 4-5-05; 8:45 am]

BILLING CODE 4910-13-P